DEPARTMENT OF ENERGY

Federal Energy Regulatory Commission

[Docket No. TM00-1-25-003]

Mississippi River Transmission Corporation; Notice of Compliance Filing

June 21, 2000.

Take notice that on June 14, 2000, Mississippi River Transmission Corporation (MRT) filed with the Commission a compliance filing revising MRT's annual fuel filing pursuant to the FERC Order Accepting Tariff Sheets Subject to Conditions, issued on May 31, 2000 in Docket No. TM00-1-25-002.

MRT requests permission to place the fuel rates into effect July 1, 2000, and states that Customers have already scheduled and nominated June Business based on fuel rates in effect prior to the Commission's Order.

MRT states that a copy of this filing is being mailed to each of MRT's customers and to the state commissions of Arkansas, Illinois and Missouri.

Any person desiring to protest said filing should file a protest with the Federal Energy Regulatory Commission, 888 First Street, NE., Washington, DC 20426, in accordance with Section 385.211 of the Commission's Rules and Regulations. All such protests must be filed on or before June 28, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-16142 Filed 6-26-00; 8:45 am]

BILLING CODE 6717-01-M